DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons whose property and interests in property have been unblocked and who have been removed from the list of Specially Designated Nationals and Blocked Persons (SDN List).

DATES: This action was issued on May 21, 2025. See Supplementary Information for relevant dates.

FOR FURTHER INFORMATION CONTACT: OFAC: Associate Director for Global Targeting, 202-622-2420; Assistant Director for Licensing, 202-622-2480; the Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On May 21, 2025, OFAC has determined that circumstances no longer warrant the inclusion of the following persons on the SDN List and their property and interests in property are no longer blocked pursuant to either Executive Order (E.O.) 13850 or E.O. 13857:

Individuals

1. GONZALEZ DELLAN, Leonardo (a.k.a. GONZALEZ, Leonardo), London, United Kingdom; DOB 11 Sep 1966; citizen Venezuela; Gender Male; Cedula No. 8639102 (Venezuela); Passport 073785390 (Venezuela) expires 01 Jul 2018; alt. Passport 046041771 (Venezuela) expires 24 May 2016; alt. Passport 002272834 (Venezuela) expires 14 Aug 2012 (individual) [VENEZUELA-EO13850].

2. FLEMING CABRERA, Alejandro Antonio, Caracas, Capital District, Venezuela; DOB 03 Oct 1973; Gender Male; Cedula No. 11953485 (Venezuela); Vice Minister for Europe of Venezuela's Ministry of Foreign Affairs; Former Vice Minister for North America of Venezuela's Ministry of Foreign Affairs; Former President of Venezuela's National Center for Foreign Commerce (CENCOEX); Former President for Suministros Venezolanos Industriales, C.A. (SUVINCA) of Venezuela's Ministry of Commerce; Former Ambassador of Venezuela to Luxembourg and Chief Ambassador of the Venezuelan Mission to the European Union (individual) [VENEZUELA].

Lisa M. Palluconi,
Acting Director, Office of Foreign Assets Control.

[FR Doc. 2025-09439 Filed 5-23-25; 8:45 am]

BILLING CODE 4810-AL-P